ENVIRONMENTAL PROTECTION AGENCY

[FRL-8981-9]

Agency Information Collection Activities, OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2249.01; Tier 1 Screening of Certain Chemicals Under the Endocrine Disruptor Screening Program (EDSP); 40 CFR 169.2(k); was approved on 10/02/2009; OMB Number 2070-0176; expires on 10/31/2012; Approved with change.

EPA ICR Number 0575.12; Health and Safety Data Reporting; Submission of Lists and Copies of Health and Safety Studies; 40 CFR part 716; was approved on 10/02/2009; OMB Number 2070-0004; expires on 10/31/2012; Approved without change.

EPA ICR Number 0916.13; Consolidated Emissions Reporting (Renewal); 40 CFR part 51, subparts A, C and G; was approved on 10/08/2009; OMB Number 2060-0088; expires on 10/31/2012; Approved without change.

EPA ICR Number 2184.03; Inclusion of Delaware and New Jersey in the Clean Air Interstate Rule (Renewal); 40 CFR part 51 and 40 CFR part 96; was approved on 10/08/2009; OMB Number 2060-0584; expires on 10/31/2010; Approved without change.

EPA ICR Number 1952.04; NESHAP for Metal Furniture Surface Coating; 40 CFR part 63, subpart A and 40 CFR part 63, subpart RRRR; was approved on 10/08/2009; OMB Number 2060-0518; expires on 10/31/2012; Approved without change.

EPA ICR Number 2152.04; Clean Air Interstate Rule to Reduce Interstate Transport of Fine Particle Matter and Ozone (Change); 40 CFR part 51 and 40 CFR part 96; was approved on 10/08/2009; OMB Number 2060-0570; expires on 02/29/2012; Approved without change.

EPA ICR Number 1587.10; State Operating Permit Regulations; 40 CFR part 70; was approved on 10/19/2009; OMB Number 2060-0243; expires on 04/30/2012; Approved without change.

EPA ICR Number 1713.09; Federal Operating Permit Regulations; 40 CFR part 71; was approved on 10/19/2009; OMB Number 2060-0336; expires on 04/30/2012; Approved without change.

EPA ICR Number 1230.26; Prevention of Significant Deterioration and Non-Attainment New Source Review (Final Rule for Flexible Air Permits); 40 CFR 51.160-51.166; 40 CFR part 51, Appendix S; 40 CFR 52.21-52.24; was approved on 10/19/2009; OMB Number 2060-0003; expires on 04/30/2012; Approved without change.

EPA ICR Number 2332.02; NESHAP for Aluminium, Copper, and Other Non-Ferrous Foundries (Final Rule); 40 CFR part 63, subpart A and 40 CFR part 63, subpart ZZZZZZ; was approved on 10/29/2009; OMB Number 2060-0630; expires on 10/31/2012; Approved without change.

EPA ICR Number 1711.12; Voluntary Customer Service Satisfaction Surveys (Renewal); was approved on 10/21/2009; OMB Number 2090-0019; expires on 10/31/2012; Approved with change.

EPA ICR Number 1813.07; Information Collection Request for Proposed Regional Haze Regulations (Renewal); 40 CFR part 51; was approved on 10/30/2009; OMB Number 2060-0421; expires on 10/31/2012; Approved with change.

Comment Filed

EPA ICR Number 2341.01; Product Noise Labelling of Hearing Protection Devices (Proposed Rule for Reporting of Test Data Reports); in 40 CFR part 211, subpart B; OMB filed comment on 10/18/2009.

Short Term Extensions of Expiration Date

EPA ICR Number 2177.04; Standards of Performance for Stationary Combustion Turbines; 40 CFR part 60, subpart KKKK; OMB Number 2060-0582; expires on 12/31/2009; a short term extension was approved on 10/30/2009.

Dated: November 5, 2009.
John Moses, Director,
Collections Strategies Division.

[FR Doc. E9-27616 Filed 11-16-09; 8:45 am]

BILLING CODE 6560-50-P